COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds services to the Procurement List that will be provided by nonprofit agencies employing persons who are blind or have other severe disabilities.

DATES: Effective Date: 1/21/2013.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 10/12/2012 (77 FR 62219-62220), 10/19/2012 (77 FR 64326-64327) and 10/26/2012 (77 FR 65365), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Recycling Services, Hart-Dole-Inouye Federal Center, 74 North Washington Avenue, Battle Creek, MI

NPA: Navigations, Inc., Battle Creek, MI

Contracting Activity: General Services Administration, Public Buildings Service, Property Management Service Center, Detroit, MI

Service Type/Location: Contract Closeout Service, Architect of the Capitol, Acquisitions & Material Mgmt. Div., Ford House Office Building, H2-263, Washington, DC

NPA: ServiceSource, Inc., Alexandria, VA

Contracting Activity: Architect of the Capitol, Washington, DC

Service Type/Location: Mess Attendant Services, 128th Air Refueling Wing, Wisconsin Air National Guard (WI ANG) Dining Facility, Bldg. 611, 1919 E Grange Ave., Milwaukee, WI

NPA: Easter Seals Southeast Wisconsin, Inc., South Milwaukee, WI

Contracting Activity: Dept of the Army, W7N8 USPFO Activity WI ARNG, Camp Douglas, WI

Service Type/Location: Custodial Service, U.S. Government Accountability Office (GAO) Field Office, 2196 D Street—Area B, Bldg. 39, Wright-Patterson AFB, Dayton, OH

NPA: Goodwill Easter Seals Miami Valley, Dayton, OH

Contracting Activity: U.S. Government Accountability Office (GAO), Except Comptroller General, GAO Acquisition Management, Washington, DC

Barry S. Lineback,
Director, Business Operations.

[FR Doc. 2012-30799 Filed 12-20-12; 8:45 am]

BILLING CODE 6353-01-P